DEPARTMENT OF HEALTH AND HUMAN SERVICES

National Institutes of Health

Office of the Director, National Institutes of Health; Notice of Meeting

Pursuant to section 1009 of the Federal Advisory Committee Act, as amended, notice is hereby given of a meeting of the Board of Scientific Counselors Chairs Meeting, Office of the Director, National Institutes of Health.

The meeting will be held as a virtual meeting and is open to the public as indicated below. Individuals who plan to view the virtual meeting and need special assistance, such as sign language interpretation or other reasonable accommodations, should notify the Contact Person listed below in advance of the meeting.

Name of Committee: Board of Scientific Counselors Chairs Meeting, National Institutes of Health.

Date: May 10, 2024.

Time: 1:00 p.m. to 4:00 p.m., EST.

Agenda: The meeting will include a discussion of policies and procedures that apply to the regular review of NIH intramural scientists and their work.

Place: National Institutes of Health, 1 Center Drive, Building 1, Room 160, Bethesda, MD 20892 (Zoom Meeting).

This meeting is a virtual meeting via Zoom and can be accessed at: https://nih.zoomgov.com/j/1609046129?pwd=SVo5djRrbTdicE5oMDcrTFBJejFOZz09.

Meeting ID: 160 904 6129.

Passcode: 611826.

One tap mobile:

+16692545252,,1609046129#,,,,*611826# US (San Jose)

+16469641167,,1609046129#,,,,*611826# US (US Spanish Line)

Dial by your location:

+1 669 254 5252 US (San Jose)

+1 646 964 1167 US (US Spanish Line)

+1 646 828 7666 US (New York)

+1 551 285 1373 US (New Jersey)

+1 669 216 1590 US (San Jose)

+1 415 449 4000 US (US Spanish Line)

Meeting ID: 160 904 6129.

Passcode: 611826.

Find your local number: https://nih.zoomgov.com/u/aBCa9yw2p.

Contact Person: Margaret McBurney, Management Analyst, Office of the Deputy Director for Intramural Research, National Institutes of Health, 1 Center Drive, Room 160, Bethesda, MD 20892-0140, (301) 496-1921, mmcburney@od.nih.gov.

Any interested person may file written comments with the committee by forwarding the statement to the Contact Person listed on this notice. The statement should include the name, address, telephone number and when applicable, the business or professional affiliation of the interested person.

Information is also available on the Office of Intramural Research home page: http://sourcebook.od.nih.gov/.

Dated: March 28, 2024.
Melanie J. Pantoja,
Program Analyst, Office of Federal Advisory Committee Policy.

[FR Doc. 2024-06978 Filed 4-2-24; 8:45 am]

BILLING CODE 4140-01-P